INTERNATIONAL TRADE COMMISSION

[Investigation No. 337-TA-1078]

Certain Amorphous Metal and Products Containing Same; Termination of Investigation

AGENCY: U.S. International Trade Commission.

ACTION: Notice.

SUMMARY: Notice is hereby given that the U.S. International Trade Commission has determined not to review the presiding administrative law judge's (“ALJ”) initial determination (“ID”) (Order No. 14), which terminated the investigation on the basis of withdrawal of the complaint.

FOR FURTHER INFORMATION CONTACT: Sidney A. Rosenzweig, Office of the General Counsel, U.S. International Trade Commission, 500 E Street SW, Washington, DC 20436, telephone (202) 708-2532. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server at https://www.usitc.gov. The public record for this investigation may be viewed on the Commission's electronic docket (EDIS) at https://edis.usitc.gov. Hearing-impaired persons are advised that information on this matter can be obtained by contacting the Commission TDD terminal on (202) 205-1810.

SUPPLEMENTARY INFORMATION: The Commission instituted this investigation on October 30, 2017, based on a complaint filed by Metglas, Inc. of Conway, South Carolina and Hitachi Metals, Ltd. of Tokyo, Japan. 82 FR 50156 (Oct. 30, 2017). The complaint alleged violations of section 337 of the Tariff Act of 1930, as amended, 19 U.S.C. 1337, by reason of misappropriation of trade secrets. Id. As later amended, the investigation named as respondents AT&M International Trading Co., Ltd. (“AT&M”), CISRI International Trading Co., Ltd., and Beijing ZLJG Amorphous Technology Co., Ltd., each of Beijing, China; AT&M-NARI Amorphous Technology Co., Ltd. of Zhouzhou, China; and Qingdao Yunlu Advanced Materials Technology Co., Ltd. of Qingdao, China. 83 FR 24140 (May 24, 2018). The Office of Unfair Import Investigations was also named as a party. 82 FR 50156.

On June 8, 2018, the complainants moved to terminate the investigation based upon withdrawal of the complaint. See 19 CFR 210.21(a)(1). The respondents did not oppose the motion, and on June 11, 2018, the Commission investigative attorney responded in support of the motion. On June 14, 2018, the ALJ granted the motion as the subject ID. The ID finds that the motion complies with Commission rules, and that extraordinary circumstances do not exist to prevent termination of the investigation. ID at 2.

No petitions for review of the ID were filed. The Commission has determined not to review the ID.

The authority for the Commission's determination is contained in section 337 of the Tariff Act of 1930, as amended (19 U.S.C. 1337), and in Part 210 of the Commission's Rules of Practice and Procedure (19 CFR part 210).

By order of the Commission.
Issued: July 9, 2018.
Lisa Barton,
Secretary to the Commission.

[FR Doc. 2018-14953 Filed 7-12-18; 8:45 am]

BILLING CODE 7020-02-P